DEPARTMENT OF LABOR

Occupational Safety and Health Administration

29 CFR Chapter XVII

Informal Discussion on Hazard Communication Rulemaking

AGENCY: Occupational Safety and Health Administration (OSHA), Department of Labor.

ACTION: Notice of public meeting.

SUMMARY: This notice is to advise interested persons that on Wednesday, November 16, 2016, OSHA will conduct a public meeting to informally discuss potential updates to the Hazard Communication Standard. The purpose of this meeting is to invite stakeholders to identify topics or issues they would like OSHA to consider in the rulemaking.

DATES: Wednesday November 16, 2016.

ADDRESSES: OSHA's informal discussion on Hazard Communication rulemaking will be held Wednesday, November 16, 2016 from 9:00 a.m.-12:30 p.m.at the Mine Safety and Health Administration (MSHA) Headquarters, Suite 700, 201 12th Street South, Arlington, VA 22202.

FOR FURTHER INFORMATION CONTACT: Ms. Maureen Ruskin, OSHA Directorate of Standards and Guidance, Department of Labor, Washington, DC 20210, telephone: (202) 693-1950, email: ruskin.maureen@dol.gov.

SUPPLEMENTARY INFORMATION:

Advanced Meeting Registration: OSHA requests that attendees pre-register for this meeting by completing the form at https://www.surveymonkey.com/r/CRPK2YY. Please note if you are attending in person MSHA, who is hosting this meeting, requires pre-registration seven days before the meeting. Failure to pre-register for this event will prevent your access into the MSHA Headquarters building. Additionally, if you are attending in-person, OSHA suggests you plan to arrive early to allow time for the security checks necessary to access the building. Conference call-in and WebEx capability will be provided for this meeting. Specific information on the MSHA Headquarters building access, and call-in and WebEx meeting access will be posted when available in the Highlights box on OSHA's Hazard Communication Web site at: https://www.osha.gov/dsg/hazcom/index.html. OSHA is beginning its rulemaking efforts to maintain alignment of the Hazard Communication Standard (HCS) with the most recent revision of the United Nations Globally Harmonized system of Classification and Labelling of chemicals (GHS). The purpose of this meeting is to request feedback from stakeholders and informally discuss potential topics or issues that OSHA should consider during a rulemaking to update the HCS. OSHA will also solicit suggestions about the types of publications stakeholders might find helpful in complying with the standard and which topics on which they would like OSHA to prepare additional compliance materials in the future.

Authority and Signature: This document was prepared under the direction of David Michaels, Ph.D., MPH, Assistant Secretary of Labor for Occupational Safety and Health, U.S. Department of Labor, pursuant to sections 4, 6, and 8 of the Occupational Safety and Health Act of 1970 (29 U.S.C. 653, 655, 657), and Secretary's Order 1-2012 (77 FR 3912), (Jan. 25, 2012).

Signed at Washington, DC, on October 24, 2016.
David Michaels,
Assistant Secretary of Labor for Occupational Safety and Health.

[FR Doc. 2016-26003 Filed 10-27-16; 8:45 am]

BILLING CODE 4510-26-P